DEPARTMENT OF AGRICULTURE

Forest Service

Shasta-Trinity National Forest; California; Lower McCloud Fuels Management Project

AGENCY: Forest Service, USDA.

ACTION: Notice of intent to prepare an environmental impact statement.

SUMMARY: With the Lower McCloud Fuels Management Project (project), the Shasta-Trinity National Forest (Forest) is proposing to create fuel management zones (FMZs), burn using prescribed fire, and remove designated hazard trees. The project area covers 12,071 acres on National Forest System lands. A combination of treatments would be used across the project area, resulting in some acres being treated with multiple prescriptions to achieve stated objectives.

DATES: Comments concerning this scope of the analysis must be received by April 21, 2016. The draft environmental impact statement is expected in December 2016 and the final environmental impact statement is expected in June 2017.

ADDRESSES: Send written comments to Carolyn Napper, District Ranger, Shasta-McCloud Management Unit, 204 W. Alma St., Mt. Shasta, California 96067, Attn: Heather McRae. Comments may also be sent via email to: comments-pacificsw-shasta-trinity-mtshasta-mccloud@fs.fed.us, or via facsimile to (530) 926-5120.

FOR FURTHER INFORMATION CONTACT: Heather McRae, Fuels Specialist, at (530) 964-3770 or hmcrae@fs.fed.us, or Andrea Shortsleeve, Interdisciplinary Team Leader at (208) 373-4386 or ashortsleeve@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Lower McCloud Fuels Management Project is located within the McCloud River basin, an area that is considered to contain outstandingly remarkable fisheries, geology, scenery, wildlife, and cultural and historic values. All lands within the project area are National Forest System Lands managed by the U.S. Forest Service, however, there are private properties located within the Lower McCloud watershed. Private ownership activities and designations include a nature preserve, a fishing club, a utility company, timber companies, and a ranching operation. The project area is located partly within the West Girard inventoried roadless area (IRA), and almost completely within the Iron Canyon Late-Successional Reserve (LSR).

The Iron Canyon LSR, is centrally located within the network of LSRs in the Shasta-McCloud subprovince, and contains some of the largest blocks of contiguous habitat in the network. This places a high level of importance on the protection and enhancement of the current and future habitat within the area. The Iron Canyon LSR was identified within a Forest-wide Late Successional Reserve Assessment as an area of elevated risk to large-scale disturbance due to changes in the characteristics and distribution of the mixed-conifer forests resulting from past fire suppression. High severity, high intensity wildfire was identified as the greatest threat to further loss and degradation of habitat for late-successional associated species within the network of LSRs.

Fire is the most widespread and dynamic disturbance regime affecting the project area. The historic fire regime in the Lower McCloud project area was characterized by frequent fires of low to mixed severity. However, the Lower McCloud project area has not experienced a large scale fire in over 100 years and has departed from historic fire return intervals. As a result, there is a significant departure in the current vegetative conditions from historic conditions in the project area. Past forest practices, including active fire suppression, have changed the composition and structure of the vegetation in the project area.

Current conditions include high fire hazard and risk. The absence of wildfire has resulted in uncharacteristically dense vegetation and high fuel loading, a decline in wildlife forage and habitat diversity, and an elevated risk of high-severity, stand-replacing fires within the LSR. These conditions have created a concern over potential fire behavior on public and private lands, threats to forest resources, and potential impacts to air quality.

Without the influence of fire under well-defined conditions to restore and maintain vegetation diversity, many stands are likely to continue to accumulate abundant fuels and vegetation, and are subsequently more likely to succumb to stand replacing fire that will reduce or eliminate late-successional conditions. Other stands are likely to continue to lose their structural and compositional diversity, important attributes of late-successional stands. As fire hazard and fire behavior potential increase, periods of poor air quality during wildfires are more likely to occur, soil erosion processes may accelerate, soil productivity may decrease, water quality may be degraded, habitat for terrestrial and aquatic wildlife species will diminish, and recreation opportunities will be negatively impacted.

Many of these concerns have been validated by relatively recent wildfires (e.g. the 2012 Bagley Complex and Ward fire, the 2009 Tennant fire; the 2007 Bolli fire; the 2005 Bagley fire; the 1999 High Complex and others) near the project area. These fires were outside of the historic fire return interval, had high fuel loading, and, due to weather conditions, burned under extreme fire conditions. The uncharacteristic fuel accumulation and weather conditions combined with poor access for firefighting forces, rugged terrain, and many other factors contributed to extreme fire behavior in most of these recent fires. During several of these fires, multiple structures were lost and air quality standards exceeded the California Air Resource Board thresholds. Additionally, areas that experienced high burn severity also experienced soil erosion, wildlife habitat loss, and degraded visual quality.

The purpose of this project is to reduce the risk of a stand-replacing fire in the LSR, improve firefighter and public safety by providing safe access in and out of the project area, and to restore fire in its natural role in the ecosystem. In order to meet the purpose of this project, there is a need to reduce fuels, improve safety of individuals, and improve forest ecosystem function and health within the project boundary. The following specific needs have been identified by the interdisciplinary team:

1. Reduction of Fuels

• There is a need to reduce fuel accumulations in the project area to minimize current fuel loading and lessen the threat of habitat loss from future wildland fires.

• There is a need to protect existing late successional habitat from threats of habitat loss that occur inside and outside of the LSR.

• There is a need to reduce the likelihood of stand replacing disturbances that would result in the loss of key late-successional structure or existing and future late-successional forest.

• There is a need for the natural role of fire to be restored to the ecosystem at historic fire return intervals to facilitate fire-related processes on this landscape.

2. Improvement of Safety of Individuals

• There is a need to provide areas and access to areas where firefighters can safely employ suppression tactics to reduce the spread and severity of uncharacteristic wildland fire.

• There is a need to remove hazard trees in FMZs, along roads, and in developed recreation sites to reduce safety risk to humans working in and visiting the area.

• There is a need to provide for the safety of individuals along access routes and within developed recreation sites.

3. Improvement of Forest Ecosystem Function and Health

• There is a need to increase habitat quality within the project area to provide for a range of species, including rare and sensitive species and those that are associated with late successional stages.

• There is a need to maintain and promote the connectivity of late successional habitat.

• There is a need to promote long term sustainability of late-successional habitat by mitigating undesirable fire effects.

• There is a need to promote the development and long term sustainability of late successional habitat characteristics within the LSR.

• There is a need to enhance riparian habitat by reducing risk of loss from fire.

• There is a need to reduce stand densities in the project area to improve the resiliency of stands to a disturbance such as a wildfire.

• There is a need to create a vegetation profile with high spatial complexity to mimic historically characteristic fire patterns.

• There is a need for the natural role of fire to be restored to the ecosystem to facilitate fire-related processes in the landscape.

• There is a need to maintain the characteristics of ecosystem composition and structure within the IRA, by reducing the risk of uncharacteristic wildfire effects within the range of variability that would be expected to occur under natural disturbance regimes of the current climatic period.

Proposed Action/Preferred Alternative

The project area is approximately 12,071 acres in total, and the proposed action involves a total of 13,153 acres of treatments, with areas of overlapping treatment. There would be no treatments occurring outside of the project area. The treatments would occur over approximately 7-10 years. The proposed action would utilize the existing road system and does not propose new road construction.

Approximately 1,630 acres are proposed for treatment as fuel management zones (FMZ). Fuel Management Zones would reduce overstory, midstory, and understory fuels, including live vegetation, and are intended to create shaded fuel breaks designed to reduce potential fire behavior in the treated area. Fuel management zones would be constructed along roads and ridge tops in order to improve those locations' functionality as evacuation routes and fuel breaks. Fuel Management Zones will range from 300 feet to 600 feet wide depending upon treatment location, and would be treated with a variety of methods, based on site specific conditions. These methods would include thinning by hand and machine, mastication by machine, machine piling, hand piling, and pile burning.

After treatment, the fuel management zones (FMZs) in the project area would reduce the current risk of large, stand-replacing fires and enhance the usability of roads and ridges in the project area for wildland fire management. Overstory trees would be thinned to reduce crown-to-crown overlap. The average height from the ground to the canopy would increase. Understory trees, shrubs, and heavy ground fuels would be reduced, increasing the potential of fire being contained at the FMZ. The density of the stand would be less that the current condition, with fewer trees per acre and the larger, more fire-resistant trees retained in the stand.

Commercial products may be removed from the fuelbreaks, primarily to reduce residual fuels and to meet the intent of applicable management direction and desired future condition. The cutting, sale, or removal of timber from the fuelbreaks may be needed to reduce the risk of uncharacteristic wildfire effects and to maintain the ecosystem's composition and structure within the range of variability that would be expected to occur under natural disturbance regimes of the current climatic period, which is allowed under the 2001 Roadless Rule. Commercial products may include biomass, firewood, or timber. The amount of residual fuel generated in the treatment of the FMZ will determine if the removal of fuel from the site would occur. If treated areas have high levels of activity generated, residual fuel that would render the fuelbreak ineffective, the fuel would be removed from the site by whichever method is most practicable. Hazard trees identified within the FMZs, roads, and developed recreation sites that pose a threat to employees and the public would be felled where determined necessary. Hazard tree felling would follow Hazard Tree Guidelines for Forest Service Facilities and Roads within the Pacific Southwest Region.

Approximately 11,523 acres are proposed for treatment with prescribed fire. Low to moderate intensity prescribed fire would be applied using and underburn to consume surface and ladder fuels in proposed areas. Multiple prescribed fire entries may be required to meet desired future conditions and could be implemented at any time of the year within designated operating periods. Prescribed fire lighting techniques would consist of aerial ignition (i.e., plastic sphere dispenser or helitorch) and hand lighting methods. Natural and man-made features, such as roads and trails, would be utilized for control lines to minimize ground disturbance where feasible. Fire lines would be constructed to mineral soil using a dozer and hand tools where natural barriers do not exist, and trees may be felled to facilitate holding activities during prescribed fire implementation. Approximately 0.21 miles of hand line and 1.9 miles of dozer line are part of the proposed action. The dozer line would be created by both constructing new fire line and scraping vegetation off of old roadbeds. The hand line would use pre-existing line that was constructed during the Bagley fire. Target prescribed fire objectives following treatment are:

• Desired flame lengths in these treatment areas vary from 0-6 feet according to resource objectives.

• Large diameter dead/down material would be retained to historical levels—where appropriate—to support soil, fungal, plant, and animal functionality.

• Up to 70% of the fuels less than 3 inches in diameter would be consumed while retaining a minimum of 50% soil cover.

• Ladder fuels would be reduced in an effort to increase canopy base height to 10 feet or greater.

• In shrub dominated areas, a mosaic of age classes and diversity of species composition would be created.

Responsible Official

Forest Supervisor, Shasta-Trinity National Forest.

Nature of Decision To Be Made

The Forest Supervisor will decide whether to implement the proposed action/preferred alternative, take an alternative action that meets the purpose and need, or take no action.

Preliminary Issues

Potentitial issues could be related to threatened and endangered species habitat, treatments within LSR and IRA, and the private property surrounding the project area. Access to the project site and proposed treatments may be an issue due to the amount of private property located within and surrounding the project area. Potential issues will be addressed within the project design.

Scoping Process

This notice of intent initiates the scoping process, which guides the development of the environmental impact statement. The scoping information and Notice for Public comment will be published in the Mt. Shasta Herald and the Redding Record Searchlight.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: March 2, 2016.
Dave Myers,
Forest Supervisor.

[FR Doc. 2016-06388 Filed 3-21-16; 8:45 am]

BILLING CODE 3411-15-P